DEPARTMENT OF ENERGY

Federal Energy Regulatory Commission

[Docket No. ER00-536-000]

Southwestern Public Service Company; Notice of Informal Settlement Conference

March 31, 2000.

Take notice that an informal settlement conference will be convened in this proceeding on Tuesday, April 11, 2000, at 9:00 a.m., at the offices of the Federal Energy Regulatory Commission, 888 First Street, NE, Washington, DC, for the purpose of exploring settlement in the above-referenced docket.

Any party, as defined by 18 CFR 385.102(c), or any participant, as defined by 18 CFR 385.102(b), is invited to attend. Persons wishing to become a party must move to intervene and receive intervenor status pursuant to the Commission's regulations (18 CFR 385.214.

For additional information, contact J. Carmen Gastilo at (202) 208-2182 or Anja M. Clark at (202) 208-2034.

Linwood A. Watson, Jr.,
Acting Secretary.

[FR Doc. 00-8469 Filed 4-5-00; 8:45 am]

BILLING CODE 6717-01-M